DEPARTMENT OF COMMERCE

National Oceanic and Atmospheric Administration

50 CFR Part 648

[Docket No. 200121-0026]

RIN 0648-BJ38

Fisheries of the Northeastern United States; Implementing Permitting and Reporting for Private Recreational Tilefish Vessels; Correction

AGENCY: National Marine Fisheries Service (NMFS), National Oceanic and Atmospheric Administration (NOAA), Commerce.

ACTION: Proposed rule; correction.

SUMMARY: This action corrects errors in the comment identifier and the comments link specified in the ADDRESSES section of the proposed rule to implement permitting and reporting for private recreational tilefish vessel published in the Federal Register on January 29, 2020.

DATES: February 7, 2020.

ADDRESSES: You may submit comments, identified by NOAA-NMFS-2020-0005, by either of the following methods:

• Electronic Submissions: Submit all electronic public comments via the Federal e-Rulemaking Portal. Go to www.regulations.gov/#!docketDetail;D=NOAA-NMFS-2020-0005, click the “Comment Now!” icon, complete the required fields, and enter or attach your comments.

• Mail: Michael Pentony, Regional Administrator, NMFS, Greater Atlantic Regional Fisheries Office, 55 Great Republic Drive, Gloucester, MA 01930. Mark the outside of the envelope: “Comments on Permitting and Reporting for Private Recreational Tilefish Anglers.”

Instructions: Comments sent by any other method, to any other address or individual, or received after the end of the comment period, may not be considered by NMFS. All comments received are part of the public record and will generally be posted to www.regulations.gov without change. All personal identifying information (e.g., name, address, etc.), confidential business information, or otherwise sensitive information submitted voluntarily by the sender will be publicly accessible. NMFS will accept anonymous comments (enter “N/A” in the required fields if you wish to remain anonymous).

Copies of Amendment 6, and of the Environmental Assessment (EA), are available from the Mid-Atlantic Fishery Management Council, 800 North State Street, Suite 201, Dover, DE 19901.

The EA and Regulatory Impact Review are also accessible via the internet at: http://www.mafmc.org/actions/blueline-tilefish.

FOR FURTHER INFORMATION CONTACT: Laura Hansen, Fishery Management Specialist, 978-281-9225.

SUPPLEMENTARY INFORMATION: On January 29, 2020, we published a rule proposing to implement permitting and reporting for private recreational tilefish vessels (85 FR 5186). The proposed rule included errors in the comment identifier and the link to the comment portal. The corrections have been made in the ADDRESSES section of this document.

Dated: February 4, 2020.
Samuel D. Rauch III,
Deputy Assistant Administrator for Regulatory Programs, National Marine Fisheries Service.

[FR Doc. 2020-02538 Filed 2-7-20; 8:45 am]

BILLING CODE 3510-22-P